FEDERAL ELECTION COMMISSION

Sunshine Act Meeting

AGENCY: Federal Election Commission.

DATE AND TIME: Thursday, November 14, 2013 at 10:00 a.m.

PLACE: 999 E Street NW., Washington, DC (Ninth Floor).

STATUS: This Meeting Will Be Open to the Public.

ITEMS TO BE DISCUSSED:

Draft Advisory Opinion 2013-13: Freshmen Hold'em, Stutzman for Congress, Gardner for Congress 2012, Tom Reed for Congress, Denham for Congress, Benishek for Congress, Inc., Rodney for Congress, Duffy for Congress, Chris Gibson for Congress, Friends of Joe Heck, Friends of Dave Joyce, Pat Meehan for Congress, Scott Rigell for Congress, Rothfus for Congress, Jon Runyan for Congress, Inc., VoteTipton.com, Valadao for Congress, and Walorski for Congress, Inc. Joint Fundraising Committee.

Draft Advisory Opinion 2013-15: Conservative Action Fund;

Proposed Final Audit Report on the Arizona Republican Party (A11-21);

Final Determination on Entitlement to Primary Election Public Funds—Governor Gary Johnson, Gary Johnson 2012 Inc. (LRA# 905);

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2013-27198 Filed 11-8-13; 11:15 am]

BILLING CODE 6715-01-P